DEPARTMENT OF TRANSPORTATION

Surface Transportation Board

Notice and Request for Comments

AGENCY: Surface Transportation Board, DOT.

ACTION: 30-day notice of request for approval: Waybill Sample.

SUMMARY: As part of its continuing effort to reduce paperwork burdens, and as required by the Paperwork Reduction Act of 1995, 44 U.S.C. 3501-3519 (PRA), the Surface Transportation Board (Board) gives notice that it is requesting from the Office of Management and Budget (OMB) approval of the information collection—the Waybill Sample—further described below. The Board previously published a notice about this collection in the Federal Register on January 16, 2014, at 79 FR 2,938. That notice allowed for a 60-day public review and comment period. No comments were received.

Comments are may now be submitted to OMB concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

Description of Collection

Title: Waybill Sample.

OMB Control Number: 2140-0015.

STB Form Number: None.

Type of Review: Extension without change.

Respondents: Any railroad that is subject to the Interstate Commerce Act and that terminated at least 4,500 carloads on its line in any of the three preceding years or that terminated at least 5% of the revenue carloads terminating in any state in any of the three preceding years.

Number of Respondents: 53.

Estimated Time Per Response: 75 minutes.

Frequency: Six respondents report monthly; 47 report quarterly.

Total Burden Hours (annually including all respondents): 325 hours.

Total “Non-hour Burden” Cost: No “non-hour cost” burdens associated with this collection have been identified.

Needs and Uses: The Surface Transportation Board is, by statute, responsible for the economic regulation of common carrier rail transportation in the United States. Under 49 CFR part 1244, a railroad is required to file carload waybill sample information (Waybill Sample) for all line-haul revenue waybills terminating on its lines if, in any of the three preceding years, it either (1) terminated at least 4,500 carloads on its, or (2) terminated at least 5% of the revenue carloads terminating in any state. The information in the Waybill Sample is used by the Board, other federal and state agencies, and industry stakeholders to monitor traffic flows and rate trends in the industry, and to develop testimony in Board proceedings. The Board has authority to collect this information under 49 U.S.C. 11144 and 11145.

DATES: Comments on this information collection should be submitted by May 1, 2014.

ADDRESSES: Written comments should be identified as “Paperwork Reduction Act Comments, Surface Transportation Board, “Waybill Sample collection.” These comments should be directed to the Office of Management and Budget, Office of Information and Regulatory Affairs, Attention: Patrick Fuchs, Surface Transportation Board Desk Officer, by email at OIRA_SUBMISSION@OMB.EOP.GOV; by fax at (202) 395-6974; or by mail to Room 10235, 725 17th Street NW., Washington, DC 20503.

For Further Information or To Obtain a Copy of the STB Form, Contact: For further information regarding the Waybill Sample collection, contact Paul Aguiar at (202) 245-0323 or economic.data@stb.dot.gov. [Federal Information Relay Service (FIRS) for the hearing impaired: (800) 877-8339.]

SUPPLEMENTARY INFORMATION: Under the PRA, a federal agency conducting or sponsoring a collection of information must display a currently valid OMB control number. A collection of information, which is defined in 44 U.S.C. 3502(3) and 5 CFR 320.3(c), includes agency requirements or requests that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: March 26, 2014.
Jeffrey Herzig,
Clearance Clerk.

[FR Doc. 2014-07163 Filed 3-31-14; 8:45 am]

BILLING CODE 4915-01-P